DEPARTMENT OF HOMELAND SECURITY

Coast Guard

33 CFR Part 165

[Docket No. USCG-2026-0084]

Safety Zone; Fireworks Displays Within the USCG East District (Formerly Fifth Coast Guard District); The Wharf, Washington, DC

AGENCY: Coast Guard, DHS.

ACTION: Notification of enforcement of regulation.

SUMMARY: The Coast Guard will enforce a safety zone for a fireworks display at “The Wharf DC,” in Washington, DC, to provide for the safety of life on navigable waterways during this event. Our regulation for recurring safety zones for fireworks displays within the USCG East District identifies the precise location. During the enforcement period, vessels may not enter, remain in, or transit through the safety zone unless authorized to do so by the COTP or his representative, and vessels in the vicinity must comply with directions from the Patrol Commander or any Official Patrol displaying a Coast Guard ensign.

DATES: The regulation in 33 CFR 165.506 will be enforced for the location identified in line no. 1 of table 2 to 33 CFR 165.506(h)(2) from 06:30 p.m. until 06:40 p.m., on February 22, 2026.

FOR FURTHER INFORMATION CONTACT: If you have questions about this notification of enforcement, call or email LCDR Kate M. Newkirk, Sector Maryland-NCR, Waterways Management Division, U.S. Coast Guard: telephone 410-576-2596, email MDNCRMarineEvents@uscg.mil.

SUPPLEMENTARY INFORMATION: The Coast Guard will enforce the safety zone regulation for a fireworks display at The Wharf DC from 6:30 p.m. to 6:40 p.m. on February 22, 2026. This action is being taken to provide for the safety of life on navigable waterways during this event. Our regulation for recurring safety zones for fireworks displays within the USCG East District, 33 CFR 165.506, specifies the location of the safety zone for the fireworks show, which encompasses portions of the Washington Channel in the Upper Potomac River, in line 1 of Table 2 to Paragraph (h)(2). As reflected in 33 CFR 165.23, vessels in the vicinity of the safety zone may not enter, remain in, or transit through the safety zone during the enforcement period unless authorized to do so by the COTP or his representative, and they must comply with directions from the Patrol Commander or any Official Patrol displaying a Coast Guard ensign.

In addition to this notification of enforcement in the Federal Register, the Coast Guard plans to provide notification of this enforcement period via the Local Notice to Mariners and marine information broadcasts.

Dated: February 12, 2026.
Patrick C. Burkett,
Captain, U.S. Coast Guard, Captain of the Port, Sector Maryland-National Capital Region.

[FR Doc. 2026-03183 Filed 2-17-26; 8:45 am]

BILLING CODE 9110-04-P